DEPARTMENT OF COMMERCE

International Trade Administration

[A-560-835]

Common Alloy Aluminum Sheet From Indonesia: Final Determination of Sales at Less Than Fair Value, and Final Affirmative Finding of Critical Circumstances

AGENCY: Enforcement and Compliance, International Trade Administration, Department of Commerce.

SUMMARY: The Department of Commerce (Commerce) determines that imports of common alloy aluminum sheet (aluminum sheet) from Indonesia are being, or are likely to be, sold in the United States at less than fair value (LTFV). The period of investigation (POI) is January 1, 2019, through December 31, 2019.

DATES: Applicable March 8, 2021.

FOR FURTHER INFORMATION CONTACT: John K. Drury, AD/CVD Operations, Office VI, Enforcement and Compliance, International Trade Administration, U.S. Department of Commerce, 1401 Constitution Avenue NW, Washington, DC 20230; telephone: (202) 482-0195.

SUPPLEMENTARY INFORMATION:

Background

On October 15, 2020, Commerce published in the Federal Register its Preliminary Determination.¹ On November 6, 2020, we postponed the final determination until March 1, 2021.² The petitioner in this investigation is the Aluminum Association Common Alloy Aluminum Sheet Working Group and its individual members: Aleris Rolled Products, Inc.; Arconic, Inc.; Constellium Rolled Products Ravenswood, LLC; JW Aluminum Company; Novelis Corporation; and Texarkana Aluminum, Inc. (the petitioner). The mandatory respondent in this investigation is Pt. Alumindo Light Metal Industry Tbk (Pt. Alumindo). We provided interested parties an opportunity to comment on the Preliminary Determination. We received no comments. As such, this final determination is unchanged from the Preliminary Determination. Commerce conducted this investigation in accordance with section 733(b) of the Tariff Act of 1930, as amended (the Act).

¹ See Common Alloy Aluminum Sheet from Indonesia: Preliminary Affirmative Determination of Sales at Less Than Fair Value, Preliminary Affirmative Determination of Critical Circumstances, 85 FR 65356 (October 15, 2020) (Preliminary Determination), and accompanying Preliminary Decision Memorandum (PDM),

² See Common Alloy Aluminum Sheet from Indonesia and Romania: Postponement of Final Determinations of Less-Than-Fair-Value Investigations, 85 FR 71049 (November 6, 2020).

Scope of the Order

The products covered by this investigation are common alloy aluminum sheet from Indonesia. For a complete description of the scope of this investigation, see the Appendix to this notice.

Scope Comments

During the course of this investigation, Commerce received scope comments from interested parties. Commerce issued a Preliminary Scope Decision Memorandum to address these comments.³ We received comments from interested parties on the Preliminary Scope Decision Memorandum, which we addressed in the Final Scope Decision Memorandum.⁴ Commerce is not modifying the scope language as it appeared in the Preliminary Determination. See the Appendix to this notice for the final scope of the investigation.

³ See Memorandum, “Common Alloy Aluminum Sheet from Bahrain, Brazil, Croatia, Egypt, Germany, Greece, India, Indonesia, Italy, Republic of Korea, Oman, Romania, Serbia, Slovenia, South Africa, Spain, Taiwan, and Turkey: Scope Comments Decision Memorandum for the Preliminary Determinations,” dated October 6, 2020 (Preliminary Scope Decision Memorandum).

⁴ See Memorandum, “Common Alloy Aluminum Sheet from Bahrain, Brazil, Croatia, Egypt, Germany, Greece, India, Indonesia, Italy, Korea, Oman, Romania, Serbia, Slovenia, South Africa, Spain, Taiwan, and Turkey: Scope Comments Final Decision Memorandum,” dated concurrently with, and hereby adopted by, this notice (Final Scope Decision Memorandum).

Verification

Because the mandatory respondent in this investigation did not provide necessary information requested by Commerce, we did not conduct verification.

Changes Since the Preliminary Determination and Use of Adverse Facts Available

Commerce has made no changes to the Preliminary Determination. As stated in the Preliminary Determination, we found that the application of facts available with an adverse inference with respect to the mandatory respondent, i.e., Pt. Alumindo, was warranted, in accordance with sections 776(a)(1), 776(a)(2)(A)-(C), and 776(b) of the Act.⁵

⁵ See Preliminary Determination.

Final Determination of Critical Circumstances

In the Preliminary Determination, we preliminarily found that critical circumstances exist with respect to imports of subject merchandise from Indonesia.⁶ Commerce received no comments regarding this issue after the Preliminary Determination. Thus, for this final determination, we continue to find that critical circumstances exist with respect to imports of subject merchandise from Indonesia.

⁶ Id. at 65357.

All-Others Rate

As discussed in the Preliminary Determination, in accordance with section 735(c)(5)(B) of the Act, Commerce preliminarily determined the estimated dumping margin for the individually examined respondent (i.e., Pt. Alumindo) entirely under section 776 of the Act. Consequently, pursuant to section 735(c)(5)(B) of the Act, and consistent with Commerce's practice, the all-others rate in the Preliminary Determination was based on the only dumping margin alleged in the petition (i.e., 32.12 percent). No parties commented on this issue and we made no changes to the all-others rate for this final determination.⁷

⁷ Id.

Final Determination

The final estimated weighted-average dumping margins are as follows:

Exporter/producer | Estimated dumping margin (percent)
Pt. Alumindo Light Metal Industry Tbk | 32.12
All Others | 32.12

Disclosure

The estimated weighted-average dumping margin assigned to the mandatory respondent in this investigation in the Preliminary Determination was based on adverse facts available, and Commerce described the method it used to determine the adverse facts available rate in the Preliminary Determination. Because we have made no changes to this margin since the Preliminary Determination, no disclosure of calculations is necessary for this final determination.

Continuation of Suspension of Liquidation

In accordance with section 735(c)(1)(B) of the Act, Commerce will instruct U.S. Customs and Border Protection (CBP) to continue to suspend liquidation of all appropriate entries of aluminum sheet from Indonesia, as described in the “Scope of the Investigation” section above, which are entered, or withdrawn from warehouse, for consumption on or after October 15, 2020, the date of publication in the Federal Register of the affirmative Preliminary Determination.

Pursuant to section 735(c)(1)(B)(ii) of the Act and 19 CFR 351.210(d), we will instruct CBP to require a cash deposit for such entries of merchandise equal to the estimated weighted-average dumping margin as follows: (1) The cash deposit rate for the respondent listed above will be equal to the respondent-specific estimated weighted-average dumping margin determined in this final determination; (2) if the exporter is not a respondent identified above but the producer is, then the cash deposit rate will be equal to the respondent-specific estimated weighted-average dumping margin established for that producer of the subject merchandise; and (3) the cash deposit rate for all other producers and exporters will be equal to the all-others estimated weighted-average dumping margin. These suspension of liquidation instructions will remain in effect until further notice.

International Trade Commission Notification

In accordance with section 735(d) of the Act, we will notify the International Trade Commission (ITC) of the final affirmative determination of sales at LTFV. Because the final determination in this proceeding is affirmative, in accordance with section 735(b)(2) of the Act, the ITC will make its final determination as to whether the domestic industry in the United States is materially injured, or threatened with material injury, by reason of imports, or sales (or the likelihood of sales) for importation of common alloy aluminum sheet from Indonesia no later than 45 days after our final determination. If the ITC determines that material injury or threat of material injury does not exist, the proceeding will be terminated, and all cash deposits will be refunded. If the ITC determines that such injury does exist, Commerce intends to issue an antidumping duty order directing CBP to assess, upon further instruction by Commerce, antidumping duties on all imports of the subject merchandise entered, or withdrawn from warehouse, for consumption on or after the effective date of the suspension of liquidation.

Notification Regarding Administrative Protective Orders

This notice serves as the only reminder to parties subject to an administrative protective order (APO) of their responsibility concerning the disposition of proprietary information disclosed under APO in accordance with 19 CFR 351.305(a)(3). Timely notification of the return or destruction of APO materials or conversion to judicial protective order is hereby requested. Failure to comply with the regulations and the terms of an APO is a violation subject to sanction.

Notification to Interested Parties

This determination is issued and published in accordance with sections 735(d) and 777(i) of the Act, and 19 CFR 351.210(c).

Dated: March 1, 2021.
Christian Marsh,
Acting Assistant Secretary for Enforcement and Compliance.

Appendix—Scope of the Investigation

The products covered by this investigation are common alloy aluminum sheet, which is a flat-rolled aluminum product having a thickness of 6.3 mm or less, but greater than 0.2 mm, in coils or cut-to-length, regardless of width. Common alloy sheet within the scope of this investigation includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of this investigation if performed in the country of manufacture of the common alloy sheet.

Excluded from the scope of this investigation is aluminum can stock, which is suitable for use in the manufacture of aluminum beverage cans, lids of such cans, or tabs used to open such cans. Aluminum can stock is produced to gauges that range from 0.200 mm to 0.292 mm, and has an H-19, H-41, H-48, H-39, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of this investigation may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of this investigation is dispositive.

[FR Doc. 2021-04738 Filed 3-5-21; 8:45 am]

BILLING CODE 3510-DS-P